DEPARTMENT OF JUSTICE

Antitrust Division

Notice Pursuant to the National Cooperative Research and Production Act of 1993; Open Mobile Alliance

Notice is hereby given that, on June 2, 2011, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, AuthenTec, Inc., Melbourne, FL; BROADCOM GPS SPAIN SL, Irvine, CA; DAO Lab Ltd., Shatin, N.T, Hong Kong; Dimark Software, Inc., Cupertino, CA; Prim'Vision, Villeneuve-Loubet, France; SeeRoo Information Co., Ltd., Songpa-gu, Seoul, REPUBLIC OF KOREA; Spectracore Technologies, San Diego, CA; UltiMobile, LLC., Orlando, FL; Z-Think, LLC., Alpharetta, GA, have been added as parties to this venture. Also, 7 Layers Inc., Irvine, CA; 724 Solutions, Inc., Toronto, Ontario, CANADA; Amobee, Herzlia, Israel; Aplix Corporation, Tokyo, Japan; Arista Enterprises LLC, Fairbanks, AK; Beijing Leadtone Wireless Ltd., Chaoyang District, Beijing, People's Republic of China; Bercut, Saint-Petersburg, Russian Federation; British Telecommunications PLC, London, United Kingdom; Cable Television Laboratories, Inc., Louisville, CO; CarrierIQ, Inc., Mountain View, CA; CDMA Development Group, Inc., Costa Mesa, CA; Colibria AS, Lysaker, NORWAY; Comviva Technologies Ltd., Gurgaon, Hayana, India; Core Mobility, Mountain View, CA; Discretix Technologies Ltd., Kfar Netter, ISRAEL; EMCC Software Ltd., Manchester, United Kingdom; Enensys Technologies, Rennes, FRANCE; esmertec AG, Dubendorf, Switzerland; Eurofins Product Service GmbH, Reichenwalde, Germany; Expway, Paris, France; FEELingk Co. Ltd., Seoul, Republic of Korea; fg microtec GmbH, Munich, Germany; InfoComm Development Authority of Singapore (IDA), Mapletree Business City, Singapore; I-ON Communications Co., Ltd., Gangnam-gu, Seoul, Republic of Korea; Jataayu Software Pvt Ltd., Bangalore, India; mCarbon Tech Innovation PVT. LTD., Noida, Uttar Pradesh, India; Mctel, Hector Otto, Monaco; Mobile Security Software, Madrid, Spain; Mobilethink A/S, Arhus, Denmark; Motricity, Inc., Bellevue, WA; Neutral Tandem, Chicago, IL; NII Holdings, Inc., Reston, VA; Novarra, Itasca, IL; NOW Wireless Ltd., Croydon, United Kingdom; Oracle USA, Inc., Redwood Shores, CA; Perlego Systems, Inc., Gig Harbor, WA; SafeNet, Inc., Amsterdam, Netherlands; SCA Technica, Inc., Nashua, NH; SEVEN, Helsinki, Finland; SFR, Paris, France; Sintesio, Foundation, Bled, SLOVENIA; Siodata Technologies, Hai Dian District, Beijing, People's Republic of China; SIRF Technologies, San Jose, CA; Smarttrust, Stockholm, Sweden; Solvix Technology Co., Ltd, Gangnam-gu, Seoul, Republic of Korea; STMicroelectronics, Geneva, Switzerland; Tecnomen Lifetree, Espoo, Finland; Telcoware Co., Ltd., Seocho-Gu, Seoul, Republic of Korea; Telespree Communications, San Francisco, CA; Tridea Works, LLC, Reston, VA; Ubiquity Software Corporation, Cardiff, United Kingdom; University of New Hampshire InterOperability Laboratory, Durham, NH; V4X SAS, Bordeaux Pessac, FRANCE; Vobile, Inc., Santa Clara, CA; Winit Inc., Daejeon, Republic of Korea; Wisegram Inc., Seoul, Republic of Korea; and Xiam Technologies Ltd., Dublin, Ireland, have withdrawn as parties to this venture.

The following members have changed their names: KTF to KT Corp., Seoul, Republic of Korea; Sun Microsystems to Oracle America, Inc., Palo Alto, CA; Fraunhofer ITS to Fraunhofer Gesellschaft e.V., Erlagen, Germany; and Global Locate Spain S.L. (a Broadcom Company) to Broadcom GPS Spain SL, Irvine, CA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on January 13, 2010. A notice was published in the Federal Register pursuant to Section 6(b) of the Act on March 10, 2010 (75 FR 11197).

Patricia A. Brink,
Director of Civil Enforcement, Antitrust Division.

[FR Doc. 2011-18023 Filed 7-19-11; 8:45 am]

BILLING CODE;M